Title 3—

The President

Proclamation 10753 of May 9, 2024

Military Spouse Appreciation Day, 2024

By the President of the United States of America

A Proclamation

Today, we honor the nearly one million military spouses for their service and sacrifice for our Nation. They are resilient. They are courageous. Like our service members, they make our country stronger.

Through long tours, frequent moves, and constant demands, these men and women remain unwavering, representing the very best of our American spirit. They step up to care for their fellow military families and friends during deployments, often singlehandedly doing the job of two parents. They make incredible contributions to our country and communities, even as they shoulder the unique demands of military life. They exude patience and selflessness during uncertainty and unpredictability. In ways big and small, military spouses answer the call to serve every day—acting as both the backbone of their families and the steel spine of our Nation.

We owe them. As a Nation, we have only one truly sacred obligation: to prepare those we send into harm's way and to care for them and their families while they are deployed and when they come home. That is why, last year, I signed an Executive Order that established the most comprehensive set of administrative actions in our country's history to support the economic security of military and veteran spouses, caregivers, and survivors. It directs all Federal agencies to do more to retain military spouses through flexible policies, enables spouses to seek advice on overseas employment issues through military legal assistance offices for the first time, and helps military spouses maintain their careers—including by improving access to quality, dependable, and affordable child care.

My Administration has also expanded the Military Parental Leave Program, ensuring that service members have the time they need with their families after a child's birth, adoption, or placement in long-term foster care. Through the First Lady's Joining Forces initiative, we are working with employers to create more flexible, transferable, and remote job opportunities for military spouses so they can balance the demands of military life while building sustainable, long-term careers. We are working to ensure that military spouses and families have access to health and wellness resources.

The English poet John Milton once wrote: “They also serve who only stand and wait.” Today and every day, let us come together to thank our military spouses. Let us honor their courage and commitment. Let us continue to meet the sacred obligation we bear to them and all those who wear the uniform. May God bless our military spouses, and may God protect our troops.

NOW, THEREFORE, I, JOSEPH R. BIDEN JR., President of the United States of America, by virtue of the authority vested in me by the Constitution and the laws of the United States, do hereby proclaim May 10, 2024, as Military Spouse Appreciation Day. I call upon the people of the United States to honor military spouses with appropriate ceremonies and activities.

IN WITNESS WHEREOF, I have hereunto set my hand this ninth day of May, in the year of our Lord two thousand twenty-four, and of the Independence of the United States of America the two hundred and forty-eighth.

[FR Doc. 2024-10639

Filed 5-13-24; 8:45 am]

Billing code 3395-F4-P